FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 31, 2013.

A. Federal Reserve Bank of Chicago (Colette A. Fried, Assistant Vice President) 230 South LaSalle Street, Chicago, Illinois 60690-1414:

1. Robert M. Wrobel Trust, Mr. Robert Wrobel, Glencoe, Illinois, as Trustee; the Debra Wrobel Trust, Debra Wrobel, Glencoe, Illinois, as Trustee; three related Wrobel Family Trusts, Debra Wrobel, Glencoe, Illinois, as Trustee; and Dr. Jack Havdala, Jonesboro, Arkansas; as a group acting in concert, to acquire at least 25 percent of the voting shares of Amalgamated Investments Company, and thereby indirectly acquire voting shares of Amalgamated Bank of Chicago, both in Chicago, Illinois.

2. Stanley Dickson, Jr., Gross Pointe Park, Michigan, as an individual, and the group consisting of Stanley Dickson, Jr., Gross Pointe Park, Michigan; Steven Dickson, Rancho Santa Fe, California; Kathryn J. Dickson, Howell, Michigan; and Riddle Limited Partnership, Howell, Michigan; to acquire voting shares of FNBH Bancorp, Inc., and thereby indirectly acquire voting shares of First National Bank in Howell, both in Howell, Michigan.

B. Federal Reserve Bank of Kansas City (Dennis Denney, Assistant Vice President) 1 Memorial Drive, Kansas City, Missouri 64198-0001:

1. Dalene M. Selko, Meade, Nebraska; to acquire voting shares of Selko Banco, Inc., and thereby indirectly acquire voting shares of Bank of Mead, both in Mead, Nebraska.

Board of Governors of the Federal Reserve System, January 11, 2013.
Margaret McCloskey Shanks,
Deputy Secretary of the Board.

[FR Doc. 2013-00769 Filed 1-15-13; 8:45 am]

BILLING CODE 6210-01-P